DEPARTMENT OF TRANSPORTATION

Federal Transit Administration

Pilot Program for Expedited Project Delivery

AGENCY: Federal Transit Administration, DOT.

ACTION: Notice: Extension of application deadline

SUMMARY: Pursuant to Section 20008 of the Moving Ahead for Progress in the 21st Century Act (MAP-21), Public Law 112-141, FTA published a Notice for Expressions of Interest (EI) for proposals for the Pilot Program for Expedited Project Delivery on July 7, 2015. Due to a technical issue with the electronic mail address that has been resolved, FTA is extending the application submission deadline announced in the EI to September 8, 2015.

DATES: Expressions of Interest to become one of the three selected participants in the Pilot Program for Expedited Project Delivery must be submitted to FTA by mail, email or facsimile by September 8, 2015. Mail submissions must be addressed to the Office of Planning and Environment, Federal Transit Administration, 1200 New Jersey Avenue SE., Room E45-119, Washington, DC 20590 and postmarked no later than September 8, 2015. Email submissions must be sent to ExpeditedProjectDelivery@fta.dot.gov by 11:59 p.m. EDT on September 8, 2015. Facsimile submissions must be submitted to the attention of Expedited Project Delivery Pilot Program at 202-493-2478 by 11:59 p.m. EST on September 8, 2015. If there are insufficient candidate projects that are able to meet the requirements of the Pilot Program, FTA may conduct additional application rounds.

FOR FURTHER INFORMATION CONTACT: Brian Jackson, FTA Office of Planning and Environment, telephone (202) 366-8520 or email Brian.Jackson@dot.gov.

SUPPLEMENTARY INFORMATION: On July 6, 2012, President Obama signed MAP-21 into law (Pub. L. 112-141), which included Section 20008(b), which establishes a Pilot Program for new fixed guideway or core capacity projects as defined under the Section 5309 Capital Investment Grant (CIG) program that demonstrate innovative project development and delivery methods or innovative financing arrangements.

FTA published a Notice for Requests of Expressions of Interest (EI) on July 7, 2015 (80 FR 38801), establishing an application deadline of August 1, 2015. Due to a technical issue with the electronic mail address in the original notice that has since been resolved, FTA is extending the application submission deadline announced in the initial EI to September 8, 2015. Technical instructions on submitting an application were published in the July EI and remain the same.

Signed in Washington, DC.
Matthew J. Welbes,
Executive Director.

[FR Doc. 2015-20037 Filed 8-13-15; 8:45 am]

BILLING CODE P